DEPARTMENT OF HEALTH AND HUMAN SERVICES

Food and Drug Administration

[Docket No. FDA-2010-N-0123]

Impact of Dissolvable Tobacco Use on Public Health; Request for Comments

Correction

In notice document 2010-6216 beginning on page 13556 in the issue of Monday, March 22, 2010, make the following correction:

On page 13556 in the second column, the paragraph that begins with “DATES:” should read: “DATES: Submit written or electronic comments by September 20, 2010.”

[FR Doc. C1-2010-6216 Filed 4-29-10; 8:45 am]

BILLING CODE 1505-01-D